DEPARTMENT OF COMMERCE

National Oceanic and Atmospheric Administration

RIN 0648-XC213

New England Fishery Management Council; Public Meeting

AGENCY: National Marine Fisheries Service (NMFS), National Oceanic and Atmospheric Administration (NOAA), Commerce.

ACTION: Notice; public meeting.

SUMMARY: The New England Fishery Management Council's (Council) Herring Committee will meet jointly with the Atlantic States Marine Fishery Council's (ASMFC) Section to consider actions affecting New England fisheries in the exclusive economic zone (EEZ).

DATES: The meeting will be held on Thursday, September 20, 2012 at 9:30 a.m.

ADDRESSES: The meeting will be held at the Comfort Inn, 1940 Post Road, Warwick, RI 02886; telephone: (401) 732-0470; fax: (401) 732-6872.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Herring Committee and the ASMFC Section will meet to develop Atlantic herring fishery specifications for the upcoming fishing years (2013-15); discussion may include specifications related to the overfishing limit (OFL), acceptable biological catch (ABC), management uncertainty and a stockwide annual catch limit (ACL), domestic annual harvesting (DAH), domestic annual processing (DAP), border transfer (BT), sub-ACLs for the four herring management areas, and set-asides for research and the fixed gear fishery. They will discuss the recent court decision regarding Amendment 4 to the Atlantic Herring Fishery Management Plan (FMP), related correspondence, and possible upcoming Council actions, including a possible action to maintain the 2012 specifications through 2013 and develop a comprehensive specifications package for 2014-16 to address some elements of the Amendment 4 court order. Also on the agenda will be the review and discussion of the recent benchmark stock assessment for Atlantic Herring (SAW/SARC 54). The Committees will also review and discuss recommendations of the Council's Scientific and Statistical Committee (SSC) regarding scientific uncertainty and the specification of ABC. They will review and discuss issues related to management uncertainty and develop recommendation for specification of management uncertainty and a stockwide ACL.

Additionally, the Committees will discuss other elements of herring fishery specifications and possible options for management area sub-ACLs. They will address other business as necessary.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: August 29, 2012.
Tracey L. Thompson,
Acting Deputy Director, Office of Sustainable Fisheries, National Marine Fisheries Service.

[FR Doc. 2012-21688 Filed 8-31-12; 8:45 am]

BILLING CODE 3510-22-P